DEPARTMENT OF DEFENSE

Department of the Army

Corps of Engineers

Notice for the Great Lakes and Mississippi River Interbasin Study (GLMRIS)

AGENCY: Department of the Army, U.S. Army Corps of Engineers, DOD.

ACTION: Notice.

SUMMARY: The U.S. Army Corps of Engineers (USACE), Chicago District has posted on http://glmris.anl.gov the “Inventory of Available Controls for Aquatic Nuisance Species of Concern—Chicago Area Waterway System” (ANS Control Paper). An Aquatic Nuisance Species (ANS) Control is an option or technology that may be applied to prevent ANS transfer via aquatic pathways. The ANS Control Paper identifies the range of options or technologies available to target the ANS of Concern in the Chicago Area Waterway System (CAWS). These ANS of Concern—CAWS were previously identified as non-native species that are the initial focus of GLMRIS.

In a December 8, 2010 notice of intent, Federal Register Notice (75 FR 76447), USACE announced it will prepare a feasibility report and an environmental impact statement (EIS) for GLMRIS. GLMRIS is a feasibility study of the range of options and technologies that could be applied to prevent ANS transfer between the Great Lakes and Mississippi River basins through aquatic pathways. USACE is conducting GLMRIS in consultation with other federal agencies, Native American tribes, state agencies, local governments and non-governmental organizations. The ANS Control Paper is an interim product of GLMRIS. For additional information regarding GLMRIS, please refer to the project Web site http://glmris.anl.gov.

This notice announces a comment period during which USACE is asking the public to submit (i) information on ANS Controls that may be effective at preventing the transfer of ANS of Concern—CAWS but that are not included in the paper, or (ii) comments regarding ANS Controls identified in the paper. This notice also announces the dates and times of conference calls hosted by USACE for the purpose of providing the public an opportunity to ask questions regarding the ANS Control Paper.

DATES: USACE announces an ANS Control Comment Period from Wednesday, December 21, 2011, through Friday, February 17, 2012. Please refer to the “ANS Control Comment Period” section below for details on the information USACE is seeking during this comment period and instructions on comment submittal.

USACE will be hosting two (2) conference calls regarding the paper. These calls are open to the public. The first call is scheduled on Tuesday, January 10, 2012 from 2 p.m.-4 p.m. (CST). The second call is scheduled on Wednesday, February 8, 2012 from 10 a.m.-12 p.m. (CST).

FOR FURTHER INFORMATION CONTACT: For further information and/or questions about GLMRIS, please contact USACE, Chicago District, Project Manager, Mr. David Wethington, by mail: USACE, Chicago District, 111 N. Canal, Suite 600, Chicago, IL 60606, or by email: david.m.wethington@usace.army.mil.

For media inquiries, please contact USACE, Chicago District, Public Affairs Officer, Ms. Lynne Whelan, by mail: USACE, Chicago District, 111 N. Canal, Suite 600, Chicago, IL 60606, by phone: (312) 846-5330 or by email: lynne.e.whelan@usace.army.mil.

SUPPLEMENTARY INFORMATION: 1. Background. USACE is conducting GLMRIS in consultation with other federal agencies, Native American tribes, state agencies, local governments and non-governmental organizations. For GLMRIS, USACE will explore ANS Controls that could be applied to prevent ANS transfer between the Great Lakes and Mississippi River basins through aquatic pathways. Potential ANS Controls may include, but are not limited to, hydrologic separation of the basins, modification of water quality or flow within a waterway, chemical application to ANS, collection and removal of ANS from a waterway, as well as other types of controls currently in research and development.

USACE will develop screening criteria consistent with study objectives and refine the list of ANS Controls to determine which warrant further consideration. USACE will formulate plans comprised of one or more of the screened ANS Controls in consideration of four criteria: Completeness, effectiveness, efficiency, and acceptability. USACE will then evaluate and compare the effects of the alternative plans.

USACE is conducting GLMRIS in accordance with the National Environmental Policy Act (NEPA) and with the Economic and Environmental Principles and Guidelines for Water and Related Land Resource Implementation Studies, Water Resources Council, March 10, 1983.

2. ANS Control Paper. The ANS Control Paper is an interim product of GLMRIS and is found at http://glmris.anl.gov/documents/interim/anscontrol/index.cfm. Through literature search and consultation with experts in the field of ANS and ANS Controls, USACE identified the ANS Controls found in the paper. These ANS Controls are those that may be effective at preventing the transfer of ANS of Concern—CAWS via aquatic pathways. ANS of Concern—CAWS are the non-native species that are the initial focus of GLMIRS.

3. ANS Control Comment Period. USACE is currently soliciting information from the public on ANS Controls that may be effective on ANS of Concern—CAWS but that may be missing from the list developed for the ANS Control Paper; USACE is also seeking comments on the included ANS Controls. The comment period runs from December 21, 2011 through February 17, 2012. Comments may be submitted in the following ways:

• GLMRIS project Web site: Use the web form found at www.glmris.anl.gov through February 17, 2012;

• Mail: Mail written information to GLMRIS ANS Control Comments, 111 N. Canal, Suite 600, Chicago, IL 60606. Comments must be postmarked by February 17, 2012; and

• Hand Delivery: Comments may be hand delivered to the USACE, Chicago District office located at 111 N. Canal St., Suite 600, Chicago, IL 60606 between 8 a.m. and 4:30 p.m. Comments must be received by Friday, February 17, 2012.

USACE will consider all comments received during this comment period. If necessary, USACE will update the ANS Control Paper and in spring 2012, will post an updated ANS Control Paper to the GLMRIS Web site.

4. Public Conference Calls. USACE will host conference calls on Tuesday, January 10, 2012 from 2 p.m.-4 p.m. (CST) and Wednesday, February 8, 2012 from 10 a.m.-12 p.m. (CST). The conference calls are intended to provide the public with an opportunity to ask questions regarding the ANS Control Paper. Call-in information for both calls is:

USA Toll-Free: (877) 336-1839.

Access Code: 8506361.

5. Authority. This action is being undertaken pursuant to the Water Resources and Development Act of 2007, Section 3061, Pub. L. 110-114, 121 STAT. 1121, and NEPA of 1969, 42 U.S.C. 4321, et seq., as amended.

Dated: December 14, 2011.
Susanne J. Davis,
Chief, Planning Branch, Chicago District, Corps of Engineers.

[FR Doc. 2011-32654 Filed 12-20-11; 8:45 am]

BILLING CODE 3720-58-P